PENSION BENEFIT GUARANTY CORPORATION

Privacy Act of 1974; System of Records

AGENCY: Pension Benefit Guaranty Corporation.

ACTION: Notice of an Altered System of Records—PBGC-12, Personnel Security Investigation Records—PBGC.

SUMMARY: The Pension Benefit Guaranty Corporation is proposing to alter a system of records maintained pursuant to the Privacy Act of 1974, as amended, entitled “PBGC-12, Personnel Security Investigation Records—PBGC.” The revised system will include records about individuals who work, or who are being considered for work, for the PBGC as contractors or as employees of contractors.

DATES: Comments on changes must be received by May 2, 2001. The changes will become effective May 17, 2001, without further notice, unless comments result in a contrary determination and a notice is published to that effect.

ADDRESSES: Comments may be mailed to the Office of the General Counsel, Suite 340, Pension Benefit Guaranty Corporation, 1200 K Street, NW., Washington, DC 20005-4026, or delivered to that address between 9:00 a.m. and 4:00 p.m. on business days. Comments also may be sent by Internet e-mail to reg.comments@pbgc.gov. Comments will be available for public inspection at the PBGC's Communications and Public Affairs Department, Suite 240 at the same address, between 9:00 a.m. and 4:00 p.m. on business days.

FOR FURTHER INFORMATION CONTACT: D. Bruce Campbell, Attorney, Office of the General Counsel, Suite 340, Pension Benefit Guaranty Corporation, 1200 K Street, NW., Washington, DC 20005-4026; 202-326-4020 (extension 3672). (For TTY/TDD users, call the federal relay service toll-free at 1-800-877-8339 and ask to be connected to 202-326-4020 (extension 3672).)

SUPPLEMENTARY INFORMATION: The PBGC conducts background investigations and reinvestigations to establish that applicants for employment and employees are reliable, trustworthy, of good conduct and character, and loyal to the United States. The PBGC maintains records about these investigations in a system of records subject to the Privacy Act of 1974, as amended (5 U.S.C. 552a) (“Privacy Act”), entitled “PBGC-12, Personnel Security Investigation Records—PBGC.” The PBGC's regulations implementing the Privacy Act exempt under 5 U.S.C. 552a(k)(5) certain records maintained in PBGC-12 from the access, contest, and certain other provisions of the Privacy Act (29 CFR 4902.9).

The PBGC is expanding its use of background investigations and reinvestigations to cover individuals who work, or who are being considered for work, for the PBGC as contractors or as employees of contractors. To reflect the change, the PBGC is proposing to alter PBGC-12 by revising the description of the categories of individuals covered by PBGC-12 and the purpose(s) for which information is collected, amending the authority for maintaining the system, and adding a new system manager for background investigation records pertaining to contractors. A proposed rule amending 29 CFR 4902.9 to make conforming changes appears elsewhere in today's Federal Register. The amendment would protect the identity of a source who furnishes information in confidence to PBGC about an individual who works, or who is being considered for work, for the PBGC as a contractor or as an employee of a contractor.

The PBGC is also making other clarifying changes to PBGC-12 by updating the citations to its regulations and revising the description of how records are stored and safeguarded to make them more specific. The PBGC is clarifying the description of the categories of records in the system to more accurately differentiate between records on background investigations maintained by the PBGC and records on background investigations on PBGC employees and applicants conducted and maintained by the Office of Personnel Management. For the convenience of the public, PBGC-12, as amended, is published in full below with the changes italicized.

Issued in Washington, DC, this 28th day of March, 2001.
John Seal,
Acting Executive Director, Pension Benefit Guaranty Corporation.

PBGC-12

System name:

Personnel Security Investigation Records—PBGC.

Security classification:

Not applicable.

System location:

Pension Benefit Guaranty Corporation, 1200 K Street NW., Washington, DC 20005-4026.

Categories of individuals covered by the system:

Employees and applicants for employment with the PBGC. Individuals who work, or who are being considered for work, for the PBGC as contractors or as employees of contractors.

Categories of records in the system:

Investigatory material regarding an individual's character, conduct, and behavior, including: records of arrests and convictions for violations of law; reports of interviews with the subject of the investigation and with persons such as present and former supervisors, neighbors, co-workers, associates, and educators who may have information about the subject of the investigation; reports about the qualifications of an individual for a specific position; reports of inquiries to law enforcement agencies, employers, and educational institutions; reports of action after an Office of Personnel Management (“OPM”) or Federal Bureau of Investigation field investigation; and other information or correspondence relating to or developed from the above.

This system of records is distinct from the OPM's Privacy Act system of records, OPM/Central-9 (Personnel Investigation Records), which covers records of personnel security investigations conducted by the OPM with respect to employees or applicants for employment with the PBGC.

Authority for maintenance of the system:

29 U.S.C. 1302; 5 CFR 5.2(c) and (d); 5 CFR parts 731 and 736; and OMB Circular No. A-130—Revised, Appendix III, 61 FR 6428.

Purpose(s):

This system of records is maintained to document investigations of individuals' character, conduct, and behavior. Records are used, in accordance with Federal personnel regulations, in making determinations relating to an individual's suitability and fitness for PBGC employment or work for the PBGC as a contractor or as an employee of a contractor, access to information, and security clearance.

Routine uses of records maintained in the system, including categories of users and the purposes of such uses:

1. A record from this system of records may be disclosed to any source from which information is requested in the course of an investigation, to the extent necessary to identify the individual, inform the source of the nature and purpose of the investigation, or identify the type of information requested.

2. A record from this system of records may be disclosed to the OPM, the Merit Systems Protection Board, the Federal Labor Relations Authority, or the Equal Employment Opportunity Commission to carry out its authorized functions (under 5 U.S.C. 1103, 1204, and 7105, and 42 U.S.C. 2000e-4, in that order).

General Routine Uses G1 through G8 (see Prefatory Statement of General Routine Uses) apply to this system of records.

Disclosure to consumer reporting agencies:

None.

Policies and practices for storing, retrieving, accessing, retaining, and disposing of records in the system:

Storage:

Records are maintained in paper and electronic form.

Retrievability:

Records are indexed by name.

Safeguards:

Paper records are kept in file cabinets in areas of restricted access that are locked after office hours. Electronic records are stored on computer networks and protected by assigning user identification numbers to individuals needing access to the records and by passwords set by authorized users that must be changed periodically.

Retention and disposal:

Records in cases in which favorable determinations are made are destroyed promptly after the determination. Records of cases in which unfavorable determinations are made are destroyed 1 year after issuance if litigation has not been initiated and otherwise upon completion of litigation.

System manager(s) and address:

For employees and applicants for employment with PBGC: Director, Human Resources Department, Pension Benefit Guaranty Corporation, 1200 K Street NW., Washington, DC 20005-4026. For individuals who work, or who are being considered for work, for the PBGC as contractors or as employees of contractors: Director, Facilities and Services Department, Pension Benefit Guaranty Corporation, 1200 K Street NW., Washington, DC 20005-4026.

Notification procedure:

Procedures are detailed in PBGC regulations: 29 CFR Part 4902.

Record access procedures:

Same as notification procedure.

Contesting record procedures:

Same as notification procedure.

Record source categories:

Information contained in this system of records is obtained from the following: (a) Applications and other personnel and security forms; (b) personal interviews with the individual that is the subject of the investigation and with persons such as employers, references, neighbors, and associates who may have information about the subject of the investigation; (c) investigative records and notices of personnel actions furnished by other federal agencies; (d) sources such as educational institutions, police departments, credit bureaus, probation officials, prison officials, and doctors; and (e) public records such as court filings and publications such as newspapers, magazines, and periodicals.

Exemptions claimed for the system:

This system of records is exempt from the access and contest and certain other provisions of the Privacy Act (5 U.S.C. 552a(c)(3), (d), (e)(1), (e)(4)(G) through (I), and (f)) to the extent that disclosure would reveal the identity of a source who furnished information to the PBGC under an express promise of confidentiality or, prior to September 27, 1975, under an implied promise of confidentiality (5 U.S.C. 552a(k)(5)).

[FR Doc. 01-8057 Filed 3-30-01; 8:45 am]

BILLING CODE 7708-01-P